INTERNATIONAL TRADE COMMISSION

[USITC SE-05-006]

Sunshine Act Meeting

Agency Holding the Meeting: International Trade Commission.

Time and Date: March 8, 2005 at 9:30 a.m.

Place: Room 101, 500 E Street SW., Washington, DC 20436; Telephone: (202) 205-2000.

Status: Open to the public.

Matters To Be Considered:

1. Agenda for future meetings: none

2. Minutes

3. Ratification List

4. Inv. No. 731-TA-1070B (Final)(Certain Tissue Paper Products from China)—briefing and vote. (The Commission is currently scheduled to transmit its determination and Commissioners' opinions to the Secretary of Commerce on or before March 18, 2005.)

5. Outstanding action jackets: none

In accordance with Commission policy, subject matter listed above, not disposed of at the scheduled meeting, may be carried over to the agenda of the following meeting.

Issued: February 16, 2005.
By order of the Commission.
Marilyn R. Abbott,
Secretary to the Commission.

[FR Doc. 05-3418 Filed 2-17-05; 11:08 am]

BILLING CODE 7020-02-P